SMALL BUSINESS ADMINISTRATION

[Disaster Declaration #18020 and #18021; MINNESOTA Disaster Number MN-00107]

Presidential Declaration of a Major Disaster for Public Assistance Only for the State of Minnesota

AGENCY: Small Business Administration.

ACTION: Notice.

SUMMARY: This is a Notice of the Presidential declaration of a major disaster for Public Assistance Only for the State of Minnesota (FEMA-4722-DR), dated 07/19/2023.

Incident: Severe Storms and Flooding.

Incident Period: 04/11/2023 through 04/30/2023.

DATES: Issued on 07/19/2023.

Physical Loan Application Deadline Date: 09/18/2023.

Economic Injury (EIDL) Loan Application Deadline Date: 04/19/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the President's major disaster declaration on 07/19/2023, Private Non-Profit organizations that provide essential services of a governmental nature may file disaster loan applications at the address listed above or other locally announced locations.

The following areas have been determined to be adversely affected by the disaster:

Primary Counties: Aitkin, Big Stone, Carlton, Chippewa, Clay, Grant, Houston, Kittson, Lac Qui Parle, Lake Of The Woods, Mahnomen, Marshall, Morrison, Norman, Pine, Pope, Renville, Roseau, Saint Louis, Stevens, Swift, Traverse, Wilkin and the Prairie Island Indian Community.

The Interest Rates are:

| Percent
For Physical Damage:
Non-Profit Organizations with Credit Available Elsewhere | 2.375
Non-Profit Organizations without Credit Available Elsewhere | 2.375
For Economic Injury:
Non-Profit Organizations without Credit Available Elsewhere | 2.375

The number assigned to this disaster for physical damage is 18020 6 and for economic injury is 18021 0.

(Catalog of Federal Domestic Assistance Number 59008)

Francisco Sánchez, Jr.,
Associate Administrator, Office of Disaster Recovery & Resilience.

[FR Doc. 2023-15745 Filed 7-25-23; 8:45 am]

BILLING CODE 8026-09-P